DEPARTMENT OF TRANSPORTATION

Federal Highway Administration

Environmental Impact Statement: Fayette County, KY

AGENCY: Federal Highway Administration, DOT.

ACTION: Notice of intent.

SUMMARY: The FHWA is issuing this notice to advise the public that an Environmental Impact Statement (EIS) will be prepared for the proposed construction of an extension of Newtown Pike on a new alignment.

FOR FURTHER INFORMATION CONTACT: David Whitworth, Area Engineer, Federal Highway Administration, John C. Watts Federal Building and U.S. Courthouse, 330 W. Broadway, Frankfort, Kentucky 40601. Telephone 502-223-6754, Fax 502-223-6735.

SUPPLEMENTARY INFORMATION: The FHWA in cooperation with the Kentucky Transportation Cabinet (KYTC) and the Lexington-Fayette County Urban Government (LFCUG) will prepare an EIS for the construction of the Newtown Pike Extension from Main Street to Broadway, with a connector to Limestone at the University of Kentucky main entrance.

The EIS will be a complement to the “Newtown Pike Extension Corridor Plan”, adopted as part of the LFCUG Comprehensive Plan and will detail environmental, social and economic impacts associated with the proposed action.

Four public meetings have been held in conjunction with the “Corridor Plan”. All meetings have been advertised and no strong public opposition has been heard. These meetings have been used to identify significant transportation and environmental issues.

Letters describing the proposed action and soliciting comments will be sent to appropriate Federal, State, and local agencies, and to private organizations and citizens who have previously expressed or are known to have interest in this proposal. A series of public meetings and a public hearing will be held while preparing this EIS. Public notice will be given of the time and place of the meetings and hearing. The draft EIS will be available for public and agency reviews and comment prior to the public hearing.

The public meetings and hearing will also be a forum for public consultation and involvement on issues associated with the National Historic Preservation Act (Section 106) when appropriate. Interested persons, groups, or parties who wish to be consulting parties under Section 106 for this project should submit a written request to the FHWA at the address provided above.

To ensure the full range of issues related to the proposed action is addressed and all significant issues identified, comments and suggestions are invited from all interested parties. Comments or questions concerning the proposed action and the EIS should also be directed to the FHWA at the address provided above.

(Catalog of Federal Domestic Assistance Program Number 20.205, Highway Planning and Construction. The regulations implementing Executive Order 12372 regarding intergovernmental consultation on Federal programs and activities apply to this program.)
Evan Wisniewski,
Program Management Engineer, Federal Highway Administration.

[FR Doc. 03-877 Filed 1-14-03; 8:45 am]

BILLING CODE 4910-22-M